NATIONAL WOMEN'S BUSINESS COUNCIL

Data Collection Available for Public Comments and Recommendations

ACTION: Notice and request for comments.

SUMMARY: In accordance with the Paperwork Reduction Act of 1995, this notice announces the National Women's Business Council's intentions to request approval on a new information collection activity that is part of an ongoing research program.

DATES: Submit comments on or before January 1, 2013.

ADDRESSES: Send all comments regarding whether these information collections are necessary for the proper performance of the function of the agency, whether the burden estimates are accurate, and if there are ways to minimize the estimated burden and enhance the quality of the collections to Emily Bruno, Director of Research and Policy, National Women's Business Council, 409 3rd St. SW., Suite 210, Washington, DC 20416.

FOR FURTHER INFORMATION CONTACT: Emily Bruno, Director of Research and Policy, National Women's Business Council, 202-205-6826 (Emily.Bruno@nwbc.gov) or Curtis B. Rich, Management Analyst, 202-205-7030, Curtis.Rich@sba.gov.

SUPPLEMENTARY INFORMATION: The National Women's Business Council (NWBC) is a non-partisan federal advisory council that serves as an independent source of advice and counsel to the President, Congress, and the Small Business Administration on economic issues of importance to women business owners. Members of the Council are prominent women business owners and leaders of women's business organizations.

One of NWBC's current research priorities is to segment the market of women entrepreneurs to understand differences in opportunities, challenges, motivations, and expectations they face in starting and growing their businesses. To NWBC's knowledge, no government agency has yet delineated a segmentation of women entrepreneurs. At the same time, NWBC would like to understand if and how the motivations and expectations of women entrepreneurs may result in self-limiting perceptions about the potential of their businesses and would like to assess which messaging is most effective in overcoming potential self-limiting perceptions.

NWBC has acquired the services of a research firm to propose a segmentation of women entrepreneurs based on existing and available data and to conduct in-depth analysis of different segments of women entrepreneurs through qualitative research. The analysis will focus on how the expectations and motivations of each segment differs in order to provide insight into what messaging can best be used to help these different segments overcome potential self-limiting perceptions and grow their businesses. The research proposed would build knowledge about how women business owners view the potential for their endeavors and provide guidance on how messages about entrepreneurship resonate with segments of women within this population. The resulting data can then inform the NWBC and other policymakers about how to reach out to women entrepreneurs to encourage maximum growth for their businesses.

The qualitative research would consist of a set of twelve focus groups with up to 12 individuals in each focus group with different segments of women entrepreneurs. Questions asked during the focus groups would elicit information on motivations and expectations of women entrepreneurs, as well as any self-limiting perceptions that the respondents may hold about their businesses and the potential for growth. The questions will also elicit reactions to messaging that is commonly provided to women through public and private small business service providers to determine which segments of the population are more receptive to the different messages and to identify any new messages that should be deployed.

Title: Focus Group Research: Women Entrepreneurs, Self-Limiting Perceptions, and Segmentation.

Description of Respondents: Women entrepreneurs in a range of industries and sectors across the United States.

Form Number: n/a.

Annual Responses: 144.

Annual Burden: 144.

Anmari J. Borja,
Executive Director.

[FR Doc. 2012-27784 Filed 11-14-12; 8:45 am]

BILLING CODE P